NUCLEAR REGULATORY COMMISSION

[Docket Nos. 50-275, 50-323; ASLBP No. 15-941-05-LA-BD01]

Establishment of Atomic Safety and Licensing Board; Pacific Gas & Electric Company

Pursuant to delegation by the Commission, see 37 FR 28710 (Dec. 29, 1972), and the Commission's regulations, see e.g., 10 CFR 2.104, 2.105, 2.300, 2.309, 2.313, 2.318, and 2.321, notice is hereby given that an Atomic Safety and Licensing Board (Board) is being established to preside over the following proceeding:

Pacific Gas & Electric Company (Diablo Canyon Power Plant, Units 1 and 2)

This proceeding arises from the Commission's May 21, 2015 decision in CLI-15-14, which refers to the Atomic Safety and Licensing Board Panel a limited portion of a hearing request submitted by Friends of the Earth (FoE) “to determine whether [FoE] has identified an NRC activity [involving the operating licenses held by Pacific Gas & Electric Company (PG&E) for Diablo Canyon Power Plant Units 1 and 2] that requires an opportunity to request an adjudicatory hearing pursuant to section 189a. of the Atomic Energy Act of 1954, as amended (AEA).” Slip op. at 2; see also id. at 7 (“The scope of the referral is limited to whether the NRC granted PG&E greater authority than that provided by its existing licenses or otherwise altered the terms of PG&E's existing licenses, thereby entitling [FoE] to an opportunity to request a hearing pursuant to AEA section 189a.”). The Commission's referral “includes such threshold issues as standing, timeliness, and satisfaction of admissibility standards” (id. at 8), and the Commission directed the Board “to rule on whether [FoE's] hearing request should be granted within 140 days of the date of this decision.” Id. at 8-9.

The Board is comprised of the following administrative judges:

Paul S. Ryerson, Chairman, Atomic Safety and Licensing Board Panel, U.S. Nuclear Regulatory Commission, Washington, DC 20555-0001.

Dr. Gary S. Arnold, Atomic Safety and Licensing Board Panel, U.S. Nuclear Regulatory Commission, Washington, DC 20555-0001.

Nicholas G. Trikouros, Atomic Safety and Licensing Board Panel, U.S. Nuclear Regulatory Commission, Washington, DC 20555-0001.

All correspondence, documents, and other materials shall be filed in accordance with the NRC E-Filing rule. See 10 CFR 2.302.

Dated: May 21, 2015.
E. Roy Hawkens,
Chief Administrative Judge, Atomic Safety and Licensing Board Panel.

[FR Doc. 2015-12933 Filed 5-29-15; 8:45 am]

BILLING CODE 7590-01-P